DEPARTMENT OF THE INTERIOR

Bureau of Land Management

[LLOPRP0600 L51010000.EROOOO LVRWH09H0600; HAG 10-0091]

Notice of Intent To Prepare an Environmental Impact Statement for the Proposed West Butte Wind Power Right-of-Way, Crook and Deschutes Counties, OR

AGENCY: Bureau of Land Management, Interior.

ACTION: Notice of intent.

SUMMARY: In compliance with the National Environmental Policy Act (NEPA) of 1969, as amended, and the Federal Land Policy and Management Act of 1976, as amended, the Bureau of Land Management (BLM) Deschutes Field Office, Prineville, Oregon, intends to prepare an Environmental Impact Statement (EIS) for the proposed West Butte Wind Power Right-of-Way (ROW) in Crook and Deschutes Counties, Oregon, and by this notice is announcing the beginning of the scoping process to solicit public comments and identify issues.

DATES: This notice initiates the public scoping process for the EIS. Comments on issues may be submitted in writing until February 3, 2010. The date(s) and location(s) of any scoping meetings will be announced at least 15 days in advance through local media, newspapers, and the BLM Web site at: http://www.blm.gov/or/districts/prineville. In order to be considered in the Draft EIS, all comments must be received prior to the close of the scoping period or 15 days after the last public meeting, whichever is later. We will provide additional opportunities for public participation upon publication of the Draft EIS.

ADDRESSES: You may submit comments related to the West Butte Wind Power ROW by any of the following methods:

• Web site: http://www.or.blm.gov/or/districts/prineville/plans/wbw_power_row/request.

• E-mail: sstoro@or.blm.gov.

• Fax: (541) 416-6798.

• Mail: West Butte Wind Power Right-of-Way Lead, BLM Prineville District Office, 3050 N.E. 3rd Street, Prineville, Oregon 97754.

Documents pertinent to this proposal may be examined at the Prineville District Office.

FOR FURTHER INFORMATION CONTACT: For further information and to have your name added to our mailing list, contact the West Butte Wind Power Right-of-Way Project Lead, telephone (541) 416-6885; address 3050 N.E. 3rd Street, Prineville, Oregon 97754; e-mail sstoro@or.blm.gov.

SUPPLEMENTARY INFORMATION: The applicant, West Butte Wind Power, LLC, has requested a ROW authorization to construct 3.9 miles of road and an adjacent power transmission line on public land. The ROW request is associated with a proposed wind farm development on adjacent private lands which would include up to 52 wind turbines and ancillary facilities. The project is 25 miles southeast of Bend, Oregon, located on the north side of U.S. Highway 20. The purpose of the public scoping process is to determine relevant issues that will influence the scope of the environmental analysis, including alternatives, and guide the process for developing the EIS. The BLM has identified the following preliminary issues: Vegetation, wildlife and wildlife habitat, visual resources, cultural and tribal resources, noise, socioeconomic impacts, and public safety impacts.

The BLM will use and coordinate the NEPA commenting process to satisfy the public involvement process for Section 106 of the National Historic Preservation Act (16 U.S.C. 470f) as provided for in 36 CFR 800.2(d)(3). Native American tribal consultations will be conducted and tribal concerns, including impacts on Indian trust assets, will be given due consideration. Federal, State, and local agencies, along with other stakeholders that may be interested or affected by the BLM's decision on this project, are invited to participate in the scoping process. Federal, State, local agencies, or Tribes, if eligible, may request, or be requested by the BLM, to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7.

December 31, 2009.
Deborah Henderson-Norton,
Prineville District Manager.

[FR Doc. 2010-838 Filed 1-15-10; 8:45 am]

BILLING CODE 4310-33-P